DEPARTMENT OF THE INTERIOR

National Park Service

National Register of Historic Places; Notification of Pending Nominations and Related Actions

Nominations for the following properties being considered for listing or related actions in the National Register were received by the National Park Service before October 21, 2006. Pursuant to § 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by November 21, 2006.

John W. Roberts,
Acting Chief, National Register/National Historic Landmarks Program.

CALIFORNIA

Alameda County

California Memorial Stadium, Bet. Piedmont Ave., Stadium Rim Way, Canyon Rd., Bancroft Way and Prospect St., Berkeley, 06001086

Los Angeles County

Eevin, Ard, House, 851 W. Mountain St., Glendale, 06001087

Mono County

Conway Ranch Historic District, Address Restricted, Lee Vining, 06001074

IDAHO

Twin Falls County

Toana Freight Wagon Road Historic District, Generally run S to N from Nevada-Idaho stateline to the Snake River, Castleford, 06001075

ILLINOIS

Madison County

Chain of Rocks Bridge, West Chain of Rocks Rd., Madison, 06001091

MASSACHUSETTS

Bristol County

Cohannet Mill No. 3, 120 Ingell St., Taunton, 06001088

Middlesex County

Hildreth-Robbins House, 19 Maple Rd., Chelmsford, 06001090

MICHIGAN

Berrien County

Ingraham School, 6514 Coloma North Rd., Coloma, 06001084

MISSOURI

Gasconade County

Hermann Historic District (Boundary Increase), 214 and 304 Franklin, 301-501 Gellert, 2202 MO 100, Hermann, 06001089

MONTANA

Lewis and Clark County

Williams Street Bridge, Williams St. crossing Ten Mile Creek, N of jct. of Williams St. and Broadwater Ave., Helena, 06001094

Teton County

Teton County Courthouse, 1 Main Ave. S, Choteau, 06001093

Valley County

Rundle Building, 208 Fifth St. S, Glasgow, 06001092

NEW YORK

Broome County

Binghamton Railway Company Complex, 375 State St., Binghamton, 06001076

Delaware County

Bloomville Methodist Episcopal Church, 35 Church St., Bloomville, 06001080

Monroe County

Garbuttsville Cemetery, Union St., Garbutt, 06001077

Orange County

Checkerboard Inn, 1292 Orange Turnpike, Monroe, 06001078

Washington County

Anthony, Susan B., Childhood House, 2835 NY 29, Battenville, 06001079

OHIO

Butler County

Voice of America Bethany Relay Station, 8070 Tylersville Rd., West Chester, 06001081

OREGON

Wasco County

Maupin Section Foreman's House, 601 Deschutes Access Rd., Maupin, 06001082

Washington County

Rice, Richard and Helen, House, 26385 N. W. Groveland Dr., Hillsboro, 06001096

TENNESSEE

Davidson County

Wilkinson House, 7663 Wilkinson Rd., Joelton, 06001095

Roane County

Stone, Dr. Gred, Sr., Hospital, 105 Roane St., Oliver Springs, 06001097

TEXAS

Tarrant County

Ponton, Dr. Arvel and Faye, House, 1208 Mistletoe Dr., Fort Worth, 06001085

Travis County

Granger House and the Perch, 805 W. 16th St., Austin, 06001083

VIRGINIA

Fairfax County

Gunnell, John, House, 489 Arnon Meadow Rd., Great Falls, 06001100

Hampton Independent City

Phoebus Historic District, Roughly bounded by VA 64, Mallory St., E. County St. and Willard Ave., Hampton (Independent City), 06001098

Rockingham County

Chrisman, George, House, 5341 Shaver Mill Rd., Linville, 06001099

A request for REMOVAL has been made for the following resource:

TENNESSEE

Sevier County

Cole, Alex, Cabin, 5 mi. S of Gatlinburg off U.S. 441 in Great Smokey Mountains Gatlinburg vicinity, 76000165

[FR Doc. E6-18596 Filed 11-3-06; 8:45 am]

BILLING CODE 4312-51-P